SMALL BUSINESS ADMINISTRATION

National Federal Regulatory Enforcement Fairness Hearing; Region III Regulatory Fairness Board

Pursuant to the Federal Advisory Committee Act, 5 U.S.C. Appendix 2, notice is hereby given that the U.S. Small Business Administration (SBA) Region III Regulatory Fairness Board and the SBA Office of the National Ombudsman will hold a National Regulatory Fairness Hearing on Wednesday, March 12, 2008, at 10 a.m. The forum is open to the public and will take place at the EPA East Building, Ceremonial Hearing Room, 1201 Constitution Avenue, NW., Room 1153, Washington, DC 20460. The purpose of the meeting is for Business Organizations, Trade Associations, Chambers of Commerce and related organizations serving small business concerns to report experiences regarding unfair or excessive Federal regulatory enforcement issues affecting America's small business.

For further information, please contact Christina Marinos, Special Assistant, Office of the National Ombudsman, 409 3rd Street, Suite 7125, Washington, DC 20416, phone (202) 401-8254 and fax (202) 292-3423, e-mail: Christina.marinos@sba.gov.

For more information, see our Web site at http://www.sba.gov/ombudsman.

Cherylyn LeBon,
Assistant Administrator for Intergovernmental Affairs, SBA Committee Management Officer.

[FR Doc. E8-4101 Filed 3-3-08; 8:45 am]

BILLING CODE 8025-01-P